DEPARTMENT OF ENERGY

Federal Energy Regulatory Commission

Notice of Effectiveness of Exempt Wholesale Generator Status

| Docket Nos.
Cross Town Energy Storage, LLC | EG24-219-000
Cranberry Point Energy Storage, LLC | EG24-220-000
Morrow Lake Solar, LLC | EG24-221-000
Solar Star 3, LLC | EG24-222-000
Solar Star 4, LLC | EG24-223-000
Ash Creek Solar, LLC | EG24-226-000
Prairie Mist Solar Project, LLC | EG24-227-000
Buckeye Plains Solar Project, LLC | EG24-228-000
Pickaway County Solar Project, LLC | EG24-229-000
BCD 2024 Fund 5 Lessee, LLC | EG24-230-000
Envoy Solar, LLC | EG24-231-000
Hill Solar 1, LLC | EG24-232-000
Western Maine Renewables, LLC | EG24-233-000
RE Papago LLC | EG24-234-000
BT Signal Ranch, LLC | EG24-235-000
Lockhart CL ESS I, LLC | EG24-236-000
Lockhart CL ESS II, LLC | EG24-237-000
Gravel Pit Solar III, LLC | EG24-240-000
Gravel Pit Solar IV, LLC | EG24-241-000
Gravel Pit Solar, LLC | EG24-242-000
DESRI Gravel Pit Construction Borrower, L.L.C | EG24-243-000
Ray Ranch Solar LLC | EG24-244-000
Twin Lakes Solar LLC | EG24-245-000
Duane Arnold Solar II, LLC | EG24-246-000
69SV 8me LLC | EG24-247-000
Blue Bird Solar, LLC | EG24-248-000

Take notice that during the month of September 2024, the status of the above-captioned entities as Exempt Wholesale Generators became effective by operation of the Commission's regulations. 18 CFR 366.7(a) (2024).

Dated: October 3, 2024.
Debbie-Anne A. Reese,
Acting Secretary.

[FR Doc. 2024-23386 Filed 10-8-24; 8:45 am]

BILLING CODE 6717-01-P